DEPARTMENT OF HEALTH AND HUMAN SERVICES

National Institutes of Health

National Institute of General Medical Sciences; Amended Notice of Meeting

Notice is hereby given of a change in the meeting of the National Advisory General Medical Sciences Council, May 19, 2005, 8:30 a.m. to May 20, 2005, 5 p.m. National Institutes of Health, Natcher Building, Conference Rooms E1 and E2, 9000 Rockville Pike, Bethesda, MD 20892 which was published in the Federal Register on April 20, 2005, 70 FR 20582-20583.

On May 19, 2005, the meeting will be closed from 8:30 a.m. to 3 p.m. and open from 3 p.m. to 5:30 p.m. On May 20, 2005, the meeting will be closed from 8:30 a.m. to 12 p.m. The meeting is partially closed to the public.

Dated: April 27, 2005.
LaVerne Y. Stringfield,
Director, Office of Federal Advisory Committee Policy.

[FR Doc. 05-8962 Filed 5-4-05; 8:45 am]

BILLING CODE 4140-01-M